DEPARTMENT OF ENERGY

Federal Energy Regulatory Commission

Combined Notice of Filings #1

Take notice that the Commission received the following electric rate filings:

Docket Numbers: ER10-1790-008; ER10-2468-002; ER10-2596-002; ER10-2597-002; ER11-3589-003; ER11-3325-003.

Applicants: BP Energy Company, Fowler Ridge Wind Farm LLC, Fowler Ridge II Wind Farm LLC, Fowler Ridge III Wind Farm LLC, Long Island Solar Farm, LLC, Whiting Clean Energy, Inc.

Description: Notification of non-material change in status of BP Energy Company, et. al.

Filed Date: 11/30/12.

Accession Number: 20121130-5271.

Comments Due: 5 p.m. ET 12/21/12.

Docket Numbers: ER12-2654-004.

Applicants: Netsales & Arts, Inc.

Description: mbr_tar to be effective 9/30/2012.

Filed Date: 11/30/12.

Accession Number: 20121130-5005.

Comments Due: 5 p.m. ET 12/21/12.

Docket Numbers: ER13-172-001.

Applicants: Midland Cogeneration Venture Limited Partnership.

Description: Amendment to Filing of Revision to Market-Based Rate Tariff to be effective 11/29/2012.

Filed Date: 11/30/12.

Accession Number: 20121130-5001.

Comments Due: 5 p.m. ET 12/21/12.

Docket Numbers: ER13-472-000.

Applicants: Northern States Power Company, a Wisconsin Corporation.

Description: 2012_11_29_NSPW CRNL Opt to Purch Agrmt-136 to be effective 1/1/2013.

Filed Date: 11/29/12.

Accession Number: 20121129-5183.

Comments Due: 5 p.m. ET 12/20/12.

Docket Numbers: ER13-473-000.

Applicants: Puget Sound Energy, Inc.

Description: OATT Revised Cover Sheet to be effective 11/14/2011.

Filed Date: 11/30/12.

Accession Number: 20121130-5000.

Comments Due: 5 p.m. ET 12/21/12.

Docket Numbers: ER13-474-000.

Applicants: Fitchburg Gas and Electric Light Company, ISO New England Inc.

Description: Conforming and Clean-up Chges to Sec II, Sch. 21—FGE to be effective 12/31/9998.

Filed Date: 11/30/12.

Accession Number: 20121130-5018.

Comments Due: 5 p.m. ET 12/21/12.

Docket Numbers: ER13-475-000.

Applicants: Southern California Edison Company.

Description: Southern California Edison Company submits tariff filing per 35.13(a)(2)(iii: SGIA & Distribution Service Agmt Industry 600 Brea Canyon Roof Top Solar Project to be effective 1/30/2013.

Filed Date: 11/30/12.

Accession Number: 20121130-5146.

Comments Due: 5 p.m. ET 12/21/12.

Docket Numbers: ER13-476-000.

Applicants: Southwest Power Pool, Inc.

Description: Southwest Power Pool, Inc. submits tariff filing per 35.13(a)(2)(iii: 2491 Westar Energy, Inc. NITSA NOA to be effective 11/1/2012.

Filed Date: 11/30/12.

Accession Number: 20121130-5147.

Comments Due: 5 p.m. ET 12/21/12.

Docket Numbers: ER13-477-000.

Applicants: PJM Interconnection, L.L.C., Virginia Electric and Power Company.

Description: PJM Interconnection, L.L.C. submits tariff filing per 35.13(a)(2)(iii: Dominion submits Interconnection Service Agmt No. 3453 among Dominion & Progress to be effective 12/1/2012.

Filed Date: 11/30/12.

Accession Number: 20121130-5166.

Comments Due: 5 p.m. ET 12/21/12.

Docket Numbers: ER13-478-000.

Applicants: East Kentucky Power Cooperative, Inc.

Description: Petition of East Kentucky Power Cooperative to Submit an Out-of-Time Fixed Resource Requirement Plan to PJM.

Filed Date: 11/30/12.

Accession Number: 20121130-5170.

Comments Due: 5 p.m. ET 12/21/12.

Docket Numbers: ER13-479-000.

Applicants: Pacific Gas and Electric Company.

Description: Pacific Gas and Electric Company submits tariff filing per 35.15: Notice of Termination of SunEdison's FRV Regulus to be effective 10/26/2012.

Filed Date: 11/30/12.

Accession Number: 20121130-5203.

Comments Due: 5 p.m. ET 12/21/12.

Docket Numbers: ER13-480-000.

Applicants: ISO New England Inc. & Bangor Hydro-Electric Company.

Description: Bangor Hydro Electric Company and ISO New England Inc. Notice of Cancellation of Original Service Agreement No. 66.

Filed Date: 11/30/12.

Accession Number: 20121130-5209.

Comments Due: 5 p.m. ET 12/21/12.

Take notice that the Commission received the following electric securities filings:

Docket Numbers: ES13-10-000.

Applicants: FirstEnergy Service Company, Jersey Central Power & Light Co.

Description: Supplement to Application of FirstEnergy Service Company.

Filed Date: 11/30/12.

Accession Number: 20121130-5313.

Comments Due: 5 p.m. ET 12/10/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2012.
Nathaniel J. Davis, Sr.,
Deputy Secretary.

[FR Doc. 2012-29581 Filed 12-6-12; 8:45 am]

BILLING CODE 6717-01-P